SOCIAL SECURITY ADMINISTRATION

Additional Options for Requesting Administrative Review—Title II and Title XVI; Withdrawal

AGENCY: Social Security Administration (SSA).

ACTION: Withdrawal of notice.

SUMMARY: We are withdrawing the notice we published in the Federal Register Notice on August 14, 2006. That notice explained that the Agency intended to expand the methods available for requesting administrative review by accepting oral requests from claimants in person or by telephone. In developing the business process, we discovered this change would not provide the same protections to the claimant that exist in the current process. As a result, we have determined that we will not change the appeal process in this manner at this time.

DATES: Effective Date: This withdrawal will be effective on September 12, 2006.

FOR FURTHER INFORMATION CONTACT: Rosemary Carey, Leader, Due Process Team, Social Security Administration, 6401 Security Boulevard, Baltimore, MD 21235, (410) 965-7936 or TTY (410) 966-5609.

SUPPLEMENTARY INFORMATION: On August 14, 2006 (71 FR 46535), we published in the Federal Register a notice entitled Additional Options for Requesting Administrative Review—Title II and Title XVI. That notice explained that we intended to expand the methods available for requesting administrative review of our determinations or decisions in the Social Security and Supplemental Security Income programs by accepting oral requests from claimants in person or by telephone. Due to unanticipated business process considerations regarding such oral requests, we are rescinding this change. However, we will honor any oral requests that we have received from August 14, 2006, until the effective date of this withdrawal notice.

Dated: September 6, 2006.
Martin H. Gerry,
Deputy Commissioner for Disability and Income Security Programs.

[FR Doc. E6-15055 Filed 9-11-06; 8:45 am]

BILLING CODE 4191-02-P